DEPARTMENT OF COMMERCE

National Oceanic and Atmospheric Administration

[I.D. 092006B]

Endangered and Threatened Species; Recovery Plan for White Abalone

AGENCY: National Marine Fisheries Service (NMFS), National Oceanic and Atmospheric Administration (NOAA), Commerce.

ACTION: Notice of Availability; request for comments.

SUMMARY: The National Marine Fisheries Service (NMFS) announces the availability of the draft White Abalone Recovery Plan (Plan) for public review. NMFS is soliciting review and comment from the public and all interested parties on the Plan, and will consider all substantive comments received during the review period before submitting the Plan for final approval.

DATES: Comments on the draft Plan must be received by close of business on December 18, 2006.

ADDRESSES: You may submit comments by any of the following methods:

• E-Mail: whiteabalone.recoveryplan@noaa.gov.

• Fax: 1-562-980-4027, Attention: Melissa Neuman.

• Mail: Submit written information to Chief, Protected Resources Division, Southwest Region, National Marine Fisheries Service, 501 West Ocean Blvd., Suite 4200, Long Beach, CA 90802 4213.

The draft Plan can be obtained via the Internet at: http://www.nmfs.noaa.gov or by submitting a request to the Assistant Regional Administrator, Protected Resources Division, Southwest Region, NMFS, 501 West Ocean Blvd., Suite 4200, Long Beach, CA 90802-4213.

FOR FURTHER INFORMATION CONTACT: Melissa Neuman, NMFS, Southwest Region (562) 980-4115.

SUPPLEMENTARY INFORMATION: White abalone (Haliotis sorenseni) was listed as the first federally endangered marine invertebrate under the United States Endangered Species Act of 1973 (ESA) in May 2001. The ESA (15 U.S.C. 1531 et seq.) requires that NOAA's National Marine Fisheries Service (NMFS) develop and implement recovery plans for the conservation and survival of threatened and endangered species under its jurisdiction, unless it is determined that such plans would not promote the conservation of the species. Accordingly, during the summer of 2002, NMFS appointed a recovery team comprised of experts in the fields of abalone biology and ecology, conservation biology, genetics, population dynamics and modeling, pathology, aquaculture, and marine policy to develop a recovery plan as mandated by the ESA.

The purposes of this Recovery Plan are to: (1) delineate those aspects of white abalone biology, life history, and threats that are pertinent to its endangerment and recovery; (2) outline and justify a strategy to achieve recovery; (3) identify the actions necessary to achieve recovery; (4) identify goals and criteria by which to measure the achievement of recovery; (5) serve as an outreach tool by articulating the reasons for white abalone's endangerment, and by explaining why the particular suite of recovery actions described is the most effective and efficient approach to achieving recovery; (6) help potential cooperators and partners understand the rationale behind the recovery actions identified, and assist them in identifying how they can facilitate recovery; (7) serve as a tool for monitoring recovery activities; and (8) be used to obtain funding for NMFS and its partners by identifying necessary recovery actions and their relative priority in the recovery process. NMFS' ultimate goal is to increase white abalone abundance to viable and self-sustaining levels such that the species can be downlisted to threatened status and eventually removed from the Endangered Species List.

NMFS sought a scientific review of the draft Plan by 12 experts in October 2005. NMFS requested that the scientific reviewers consider: (1) issues and assumptions relating to the biological and ecological information of the draft Plan, and (2) scientific data relating to the tasks in the proposed recovery program. Four reviewers responded to NMFS' request. The recovery team reconvened in June 2006 to consider the reviewer's comments and incorporate changes to the draft Plan accordingly. NMFS will consider all substantive comments and information presented during the public comment period in the course of finalizing this Plan.

Dated: October 27, 2006.
Angela Somma,
Chief, Endangered Species Division, Office of Protected Resources, National Marine Fisheries Service.

[FR Doc. E6-18505 Filed 11-1-06; 8:45 am]

BILLING CODE 3510-22-S